SECURITIES AND EXCHANGE COMMISSION

[File No. 500-1]

Enwin Resources, Inc., Order of Suspension of Trading

September 18, 2012.

It appears to the Securities and Exchange Commission that there is a lack of current and accurate information concerning the securities of Enwin Resources, Inc. because it has not filed any periodic reports since the period ended May 31, 2009.

The Commission is of the opinion that the public interest and the protection of investors require a suspension of trading in the securities of the above-listed company. Therefore, it is ordered, pursuant to Section 12(k) of the Securities Exchange Act of 1934, that trading in the securities of the above-listed company is suspended for the period from 9:30 a.m. EDT on September 18, 2012 through 11:59 p.m. EDT on October 1, 2012.

By the Commission.
Jill M. Peterson,
Assistant Secretary.

[FR Doc. 2012-23316 Filed 9-18-12; 4:15 pm]

BILLING CODE 8011-01-P